ENVIRONMENTAL PROTECTION AGENCY

40 CFR Part 180

[EPA-HQ-OPP-2008-0923; FRL-8397-7]

Exemptions From the Requirement of a Tolerance; Proposed Technical Amendments

AGENCY: Environmental Protection Agency (EPA).

ACTION: Proposed rule; technical amendments.

SUMMARY: This document proposes minor technical revisions of certain commodity terms listed under 40 CFR part 180, subpart D. EPA is proposing this action to eventually establish a uniform listing of commodity terms.

DATES: Comments must be received on or before May 11, 2009.

ADDRESSES: Submit your comments, identified by docket identification (ID) number EPA-HQ-OPP-2008-0923, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket’s normal hours of operation (8:30 a.m. to 4 p.m., Monday through Friday, excluding legal holidays). Special arrangements should be made for deliveries of boxed information. The Docket Facility telephone number is (703) 305-5805.

Instructions: Direct your comments to docket ID number EPA-HQ-OPP-2008-0923. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Stephen Morrill, Biopesticides and Pollution Prevention Division (7511P), Office of Pesticide Programs, Environmental Protection Agency, 1200 Pennsylvania Ave., NW., Washington, DC 20460-0001; telephone number: (703) 308-8319; fax number: (703) 308-7026; e-mail address: morrill.stephen @epa.gov.

SUPPLEMENTARY INFORMATION:

I. General Information

A. Does This Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. What Should I Consider as I Prepare My Comments for EPA?

1. Docket. EPA has established a docket for this action under docket identification (ID) number EPA-HQ-OPP-2008-0923. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

What Action Is the Agency Taking?

EPA's Office of Pesticide Programs (OPP) has developed a commodity vocabulary database entitled Food and Feed Commodity Vocabulary. The database was developed to consolidate all the major OPP commodity vocabularies into one standardized vocabulary. As a result, all future pesticide tolerances issued under 40 CFR part 180 will use the ‘‘preferred commodity term’’ as listed in the aforementioned database. This is the ninth in a series of documents revising the terminology of commodity terms listed under 40 CFR part 180. Eight final rules, revising pesticide tolerance nomenclature, have published in the Federal Register: June 19, 2002 (67 FR 41802) (FRL-6835-2); June 21, 2002 (67 FR 42392) (FRL-7180-1); July 1, 2003 (68 FR 39428) (FRL-7308-9) and (68 FR 39435) (FRL-7316-9); December 13, 2006 (71 FR 74802) (FRL-8064-3); September 18, 2007 (72 FR 53134) (FRL-8126-5) corrected on October 31, 2007 (72 FR 61535) (FRL-8151-4); and October 10, 2008, (73 FR 60151) (FRL-8376-1). This revision process will establish a uniform presentation of existing commodity terms under 40 CFR part 180.

This document proposes many revisions to the commodity terms in 40 CFR part 180, subpart D. These proposed revisions, if adopted, would replace certain commodity terms that are no longer used by EPA with the appropriate matching term in the “Food and Feed Vocabulary.” The sections affected are listed in the Table.

In Section | In paragraph | Remove the term | Add in its place the term
180.1011 | (b) | beeswax and honey | honey and honeycomb
180.1019 | (b) | meat | cattle, meat; goat, meat; hog, meat; horse, meat; sheep, meat;
180.1019 | (b) | poultry | poultry, fat; poultry, meat; poultry, meat, byproducts
180.1019 | (b) | eggs | egg
180.1020 | (a) Commodity list | Bean, dry, edible | Bean, dry, seed
180.1020 | (a) | Corn, fodder | Corn, field, stover; Corn, pop, stover;
180.1020 | (a) | Corn, forage | Corn, field, forage
180.1020 | (a) | Corn, grain | Corn, field, grain; Corn, pop, grain
180.1020 | (a) | Cottonseed | Cotton, undelinted, seed
180.1020 | (a) | Flaxseed | Flax, seed
180.1020 | (a) | Guar beans | Guar, seed
180.1020 | (a) | Peas, southern | Cowpea, forage; Cowpea, hay; Cowpea, seed
180.1020 | (a) | Peppers, chili | Pepper, chili
180.1020 | (a) | Potatoes | Potato
180.1020 | (a) | Rice | Rice, grain; Rice straw
180.1020 | (a) | Safflower, grain | Safflower, seed
180.1020 | (a) | Sorghum, grain | Sorghum, grain, grain
180.1020 | (a) | Sorghum, fodder | Sorghum, grain, stover
180.1020 | (a) | Soybeans | Grain, aspirated fractions; Soybean, forage; Soybean, hay; Soybean, seed
180.1020 | (a) | Sunflower seed | Sunflower, seed
180.1020 | (b) | Wheat | Wheat, forage; Wheat, grain; Wheat, hay; Wheat, straw
180.1021 | (a) | Meat | Cattle, meat; Goat, meat; Hog, meat; Horse, meat; sheep, meat
180.1021 | (a) | Poultry | Poultry, fat; Poultry, meat; Poultry, meat byproducts
180.1021 | (a) | Eggs | Egg
180.1022 |  | eggs | egg
180.1022 |  | poultry | poultry, fat; poultry, meat; poultry, meat byproducts
180.1023 | (a) | alfalfa | alfalfa, forage; alfalfa, hay; alfalfa, seed
180.1023 | (a) | barley grain | barley, grain
180.1023 | (a) | Bermuda grass | Bermudagrass, forage; Bermudagrass, hay
180.1023 | (a) | bluegrass | bluegrass, forage; bluegrass, hay
180.1023 | (a) | brome grass | bromegrass, forage; bromegrass, hay
180.1023 | (a) | clover | clover, forage; clover, hay
180.1023 | (a) | corn grain | corn, field, grain; corn, pop, grain; corn, sweet, kernel plus cob with husks removed
180.1023 | (a) | cowpea hay | cowpea, hay
180.1023 | (a) | fescue | fescue, forage; fescue, hay
180.1023 | (a) | lespedeza | lespedeza, forage; lespedeza, hay
180.1023 | (a) | lupines | lupin
180.1023 | (a) | oat grain | oat, grain
180.1023 | (a) | orchard grass | orchardgrass, forage; orchardgrass, hay
180.1023 | (a) | peanut hay | peanut, hay
180.1023 | (a) | peavine hay | pea, field, hay
180.1023 | (a) | rye grass | ryegrass, Italian, hay
180.1023 | (a) | sorghum grain | sorghum, grain, grain
180.1023 | (a) | soybean hay | soybean, hay
180.1023 | (a) | sudan grass | sudangrass, forage; sudangrass, hay
180.1023 | (a) | timothy | timothy, forage; timothy, hay
180.1023 | (a) | vetch | vetch, forage; vetch, hay
180.1023 | (a) | wheat grain | wheat, grain
180.1023 | (b) | meat and meat byproducts of cattle, sheep, hogs, goats, horses | cattle, meat; cattle, meat byproducts; goat, meat; goat, meat byproducts; hog, meat; hog, meat byproducts; horse, meat; horse, meat byproducts; sheep, meat; sheep, meat byproducts
180.1023 | (b) | poultry | poultry, fat; poultry, meat; poultry, meat byproducts
180.1023 | (b) | eggs | egg
180.1027 | (c) | including corn, cottonseed, beans, lettuce, okra, peppers, sorghum, soybeans, and tomatoes. | [Removed]
180.1035 |  | honey and beeswax | honey and honeycomb
180.1037 | (a) | cottonseed | cotton, undelinted, seed
180.1037 | (b) | artichokes | artichoke
180.1043 |  | cottonseed | cotton, undelinted, seed
180.1054 | (b) | grapes | grape
180.1057 |  | citrus fruit | fruit, citrus
180.1058 |  | alfalfa hay | alfalfa, hay
180.1058 |  | Bermuda grass hay | Bermudagrass, hay
180.1058 |  | blue grass hay | bluegrass, hay
180.1058 |  | brome grass hay | bromegrass, hay
180.1058 |  | clover hay | clover, hay
180.1058 |  | corn grain | corn, field, grain; corn, pop, grain
180.1058 |  | oat grain | oat, grain
180.1058 |  | orchard grass hay | orchardgrass, hay
180.1058 |  | sorghum grain | sorghum, grain, grain
180.1058 |  | sudan grass hay | sudangrass, hay
180.1058 |  | rye grass hay | ryegrass, Italian, hay
180.1058 |  | timothy hay | timothy, hay
180.1070 |  | crop group Brassica (cole) leafy vegetables | Vegetable, brassica, leafy, group 5
180.1070 |  | radishes | radish, roots; radish, tops
180.1073 |  | peaches | peach
180.1073 |  | quinces | quince
180.1073 |  | nectarines | nectarine
180.1073 |  | macadamina nuts | nut, macadamia
180.1075 |  | Rice grain | Rice, grain
180.1075 |  | Soybeans | Soybean, seed; Soybean, forage; Soybean, hay; Grain, aspirated fractions
180.1076 | (b) | pasture and rangeland forage | grass, pasture, forage; grass, rangeland, forage
180.1083 | (a) and (b) | Peas | Pea, dry, seed; Pea, succulent
180.1087 |  | almond | almond; almond, hulls
180.1087 |  | cotton | cotton, undelinted seed; cotton, gin byproducts
180.1087 |  | soybeans | soybean, seed; soybean, forage; soybean, hay; grain, aspirated fractions
180.1087 |  | potatoes | potato
180.1087 |  | sugarbeets | beet, sugar, roots; beet, sugar, tops
180.1087 |  | tomatoes | tomato
180.1087 |  | bell peppers | pepper, bell
180.1087 |  | strawberries | strawberry
180.1087 |  | eggplants | eggplant
180.1087 |  | cucumbers | cucumber
180.1087 |  | carrots | carrot, roots
180.1087 |  | radish | radish, roots; radish, tops
180.1087 |  | turnips | turnip, roots; turnip, tops
180.1087 |  | onions | onion
180.1087 |  | peas | pea, dry, seed; pea, succulent
180.1087 |  | melons | melon
180.1087 |  | grapes | grape
180.1087 |  | walnuts | walnut
180.1092 |  | beeswax and honey | honey and honeycomb
180.1097 |  | grapes | grape
180.1103 |  | RACs | raw agicultural commodities
180.1113 |  | grasses, forage and hay | grass, forage; grass, hay
180.1113 |  | rice, grain and straw | rice, grain; rice, straw
180.1113 |  | soybeans | Grain, aspirated fractions; soybean, seed
180.1113 |  | soybean, forage and hay | soybean, forage; soybean, hay
180.1113 |  | wild rice | rice, wild grain
180.1178 |  | honey and beeswax | honey and honeycomb
180.1196 | (a) | raw agricultural commodities, in processed commodities | all food commodities
180.1196 | (b) | all raw and processed food commodities | all food commodities
180.1206 | (a) | cotton and its food/feed commodities | cotton, gin byproducts; cotton, hulls; cotton, meal; cotton, refined oil; cotton, undelinted seed
180.1206 | (c) | on corn | in or on grain, aspirated fractions; corn, field, forage: corn, field flour; corn, field, grain; corn, field, grits; corn, field, starch; corn, field, stover; corn, pop, grain; corn, pop, stover; corn, sweet, forage; corn, sweet, kernel plus cob with husks removed; corn, sweet, stover
180.1219 |  | corn, sweet (K+CWHR) | corn, sweet, kernel plus cob with husks removed
180.1254 |  | on peanut and its food/feed commodities | In or on peanut; peanut hay; peanut, meal; peanut, refined oil
180.1258 |  | alfalfa | Alfalfa, seed; alfalfa, hay
180.1258 |  | barley grain | barley, grain
180.1258 |  | Bermuda grass | bermudagrass, hay
180.1258 |  | bluegrass | bluegrass, hay
180.1258 |  | brome grass | bromegrass, hay
180.1258 |  | clover | clover, hay
180.1258 |  | corn grain | corn, field, grain; corn, pop, grain
180.1258 |  | cowpea hay | cowpea, hay
180.1258 |  | fescue hay | fescue, hay
180.1258 |  | lespedeza | lespedeza, hay
180.1258 |  | lupines | lupin
180.1258 |  | oat grain | oat, grain
180.1258 |  | orchard grass | orchardgrass, hay
180.1258 |  | peanut grass | peanut, hay
180.1258 |  | Timothy | timothy, hay
180.1258 |  | vetch | vetch, hay
180.1258 |  | wheat grain | wheat, grain
180.1261 |  | tomatoes and peppers | pepper and tomato
180.1274 |  | wheat and barley | grain, aspirated fractions; barley, grain: barley, hay; barley, straw; wheat, grain; wheat, forage; wheat, hay; wheat, straw
180.1276 |  | grass and grass hay | grass, forage; grass, hay
180.1279 |  | cucurbits | cucurbit

III. Statutory and Executive Order Reviews

This document proposes technical amendments to the Code of Federal Regulations which have no substantive impact on the underlying regulations, and does not otherwise impose or amend any requirements. As such, the Office of Management and Budget (OMB) has determined that a technical amendment is not a “significant regulatory action” subject to review by OMB under Executive Order 12866, entitled Regulatory Planning and Review (58 FR 51735, October 4, 1993). Because this proposed rule has been exempted from review under Executive Order 12866 due to its lack of significance, this proposed rule is not subject to Executive Order 13211, Actions Concerning Regulations That Significantly Affect Energy Supply, Distribution, or Use (66 FR 28355, May 22, 2001). This proposed rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations under Executive Order 12898, entitled Federal Actions to Address Environmental Justice in Minority Populations and Low-Income Populations (59 FR 7629, February 16, 1994); or OMB review or any Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104&ndash;113, section 12(d) (15 U.S.C. 272 note). The Regulatory Flexibility Act (RFA) (5 U.S.C. 601 et seq.) generally requires an agency to prepare a regulatory flexibility analysis of any rule subject to notice and comment rulemaking requirements under the Administrative Procedure Act or any other statute unless the agency certifies that the rule will not have a significant impact on a substantial number of small entities. Small entities include small businesses, small organizations, and small governmental organizations. After considering the economic impacts of today's proposed rule on small entities, I certify that this action will not have a significant economic impact on a substantial number of small entities. This action proposes technical amendments to the Code of Federal Regulations which have no substantive impact on the underyling regulations. These technical amendments will not have any negative economic impact on any entities, including small entities. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This proposed rule directly regulates growers, food processors, food handlers and food retailers, not States. This action does not alter the relationships or distribution of power and responsibilities established by Congress in the preemption provisions of section 408(n)(4) of the FFDCA. For these same reasons, the Agency has determined that this proposed rule does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” “Policies that have tribal implications” is defined in the Executive Order to include regulations that have “substantial direct effects on one or more Indian tribes, on the relationship between the Federal Government and the Indian tribes, or on the distribution of power and responsibilities between the Federal Government and Indian tribes.” This proposed rule will not have substantial direct effects on tribal governments, on the relationship between the Federal Government and Indian tribes, or on the distribution of power and responsibilities between the Federal Government and Indian tribes, as specified in Executive Order 13175. Thus, Executive Order 13175 does not apply to this proposed rule.

List of Subjects in 40 CFR Part 180

Environmental protection, Administrative practice and procedure, Agricultural commodities, Pesticides and pests, Reporting and recordkeeping requirements.

Dated: January 21, 2009.
Janet L. Andersen,
Director, Biopesticides and Pollution Prevention Division, Office of Pesticide Programs.

Therefore, it is proposed that 40 CFR chapter I, subpart D be amended as follows:

1. The authority citation for part 180 would continue to read as follows:

Authority: 21 U.S.C. 321(q), 346a and 371.

2. In § 180.1011, by revising paragraph (b) to read as follows:

§ 180.1011 Viable spores of the microorganism Bacillus thuringiensis Berliner; exemption from the requirement of a tolerance.

(b) Exemption from the requirement of a tolerance is established for residues of the microbial insecticide Bacillus thuringiensis Berliner, as specified in paragraph (a) of this section, in or on honey and honeycomb and all other raw agricultural commodities when it is applied either to growing crops, or when it is applied after harvest in accordance with good agricultural practices.

3. In § 180.1019, by revising paragraph (b) to read as follows:

§ 180.1019 Sulfuric acid; exemption from the requirement of a tolerance.

(b) Residues of sulfuric acid are exempted from the requirement of a tolerance in cattle, meat; goat, meat; hog, meat; horse, meat; sheep, meat; poultry, fat; poultry, meat; poultry, meat, byproducts; egg; milk; fish, shellfish, and irrigated crops when it results from the use of sulfuric acid as an inert ingredient in a pesticide product used in irrigation conveyance systems and lakes, ponds, reservoirs, or bodies of water in which fish or shellfish are cultivated. The sulfuric acid is not to exceed 10% of the pesticide formulation (non-aerosol formulations only).

4. In § 180.1020, by revising the Commodity list in paragraph (a) and the table in paragraph (b) to read as follows:

§ 180.1020 Sodium chlorate; exemption from the requirement of a tolerance.

(a) * * *

Commodity

Bean, dry, seed

Corn, field, stover

Corn, pop, stover

Corn, field, forage

Corn, field, grain

Corn, pop, grain

Cotton, undelinted seed

Flax, seed

Flax, straw

Guar, seed

Cowpea, seed

Cowpea, hay

Cowpea, forage

Pepper, chili

Potato

Rice, grain

Rice, straw

Safflower, seed

Sorghum, grain, grain

Sorghum, grain, stover

Sorghum, forage

Soybean, seed

Soybean, forage

Soybean, hay

Grain, aspirated fractions

Sunflower, seed

(b) * * *

Commodity | Parts per million | Expiration/revocation date
Wheat, forage | NA | 12/31/06
Wheat, grain | NA | 12/31/06
Wheat, hay | NA | 12/31/06
Wheat, straw | NA | 12/31/06

5. In § 180.1021, by revising paragraph (a) introductory text to read as follows:

§ 180.1021 Copper; exemption from the requirement of a tolerance.

(a) Copper is exempted from the requirement of a tolerance in cattle, meat; goat, meat; hog, meat; horse, meat; sheep, meat; milk, poultry, fat; poultry, meat; poultry, meat byproducts; egg, fish, shellfish, and irrigated crops when it results from the use of:

6. Section 180.1022 is revised to read as follows:

§ 180.1022 Iodine-detergent complex; exemption from the requirement of a tolerance.

The aqueous solution of hydriodic acid and elemental iodine, including one or both of the surfactants (a) polyoxypropylene-polyoxyethylene glycol nomionic block polymers (minimum average molecular weight 1,900) and (b) &alpha;-(p- nonylphenyl)-omega- hydroxypoly (oxyethylene) having a maximum average molecular weight of 748 and in which the nonyl group is a propylene trimer isomer, is exempted from the requirement of a tolerance for residues in egg, and poultry, fat; poultry, meat; poultry, meat byproducts when used as a sanitizer in poultry drinking water.

7. In § 180.1023, by revising paragraphs (a) and (b) to read as follows:

§ 180.1023 Propanoic acid; exemptions from the requirement of a tolerance.

(a) Postharvest application of propanoic acid or a mixture of methylene bispropionate and oxy(bismethylene) bisproprionate when used as a fungicide is exempted from the requirement of a tolerance for residues in or on the following raw agricultural commodities: Alfalfa, forage; alfalfa, hay; alfalfa, seed; barley, grain; Bermudagrass, forage; Bermudagrass, hay; bluegrass, forage; bluegrass, hay; bromegrass, forage; bromegrass, hay; clover, forage; clover, hay; corn, field, grain; corn, pop, grain; cowpea, hay; fescue, forage; fescue, hay; lespedeza, forage; lespedeza, hay; lupin; oat, grain; orchardgrass, forage; orchardgrass, hay; peanut, hay; pea, field, hay; ryegrass, Italian, hay; sorghum, grain, grain; soybean, hay; sudangrass, forage; sudangrass, hay; timothy, forage; timothy, hay; vetch, forage; vetch, hay; and wheat, grain.

(b) Propanoic acid is exempt from the requirement of a tolerance for residues in or on cattle, meat; cattle, meat byproducts; goat, meat; goat, meat byproducts; hog, meat; hog meat byproducts; horse, meat; horse, meat byproducts; sheep, meat; sheep meat byproducts; and, poultry, fat; poultry meat; poultry meat byproducts; milk, and egg when applied as a bactericide/fungicide to livestock drinking water, poultry litter, and storage areas for silage and grain.

8. In § 180.1027, by revising paragraph (c) to read as follows:

§ 180.1027 Nuclear polyhedrosis virus of Heliothis zea; exemption from the requirement of a tolerance.

(c) Exemptions from the requirement of a tolerance are established for the residues of the microbial insecticide Heliothis zea NPV, as specified in paragraphs (a) and (b) of this section, in or on all agricultural commodities.

9. Section 180.1035 is revised to read as follows:

§ 180.1035 Pine oil; exemption from the requirement of a tolerance.

Pine oil is exempted from the requirement of a tolerance for residues in the raw agricultural commodities honey and honeycomb, when present therein as a result of its use as a deodorant at no more than 12 percent in formulation with the bee repellent butanoic anhydride applied in an absorbent pad over the hive.

10. Section 180.1037 is revised to read as follows:

§ 180.1037 Polybutenes; exemption from the requirement of a tolerance.

(a) Polybutenes are exempt from the requirement of a tolerance for residues in or on the raw agricultural commodity cotton, undelinted seed when used as a sticker agent for formulations of the attractant gossyplure (1:1 mixture of (Z,Z)- and (Z,E)-7,11-hexadecadien-1-ol acetate) to disrupt the mating of the pink bollworm.

(b) Polybutenes are exempt from the requirement of a tolerance for residues in or on the raw agricultural commodity artichoke when used as a sticker agent in multi-layered laminted controlled-release dispensers of (Z)-11-hexaadecenal to disrupt the mating of the artichoke plume moth.

11. Section 180.1043 is revised to read as follows:

§ 180.1043 Gossyplure; exemption from the requirement of a tolerance.

The pheromone gossyplure, a 1:1 mixture of (Z,Z)- and (Z,E)-7,11-hexadecadien-1-ol acetate) is exempt from the requirement of a tolerance in or on the raw agricultural commodity cotton, undelinted seed when applied to cotton from capillary fibers.

12. In § 180.1054, by revising paragraph (b) to read as follows:

§ 180.1054 Calcium hypochlorite; exemptions from the requirement of a tolerance.

(b) Calcium hypochlorite is exempted from the requirement of a tolerance in or on grape when used as a fumigant postharvest by means of a chlorine generator pad.

13. Section 180.1057 is revised to read as follows:

§ 180.1057 Phytophthora palmivora; exemption from requirement of tolerance.

Phytophthora palmivora is exempted from the requirement of a tolerance in or on the raw agricultural commodity fruit, citrus.

14. Section 180.1058 is revised to read as follows:

§ 180.1058 Sodium diacetate; exemption from the requirement of a tolerance.

Sodium diacetate, when used postharvest as a fungicide, is exempt from the requirement of a tolerance for residues in or on alfalfa, hay; bermudagrass, hay; bluegrass, hay; bromegrass, hay; clover,hay; corm, field, grain; corn, pop, grain; oat, grain; orchardgrass, hay; sorghum, grain, grain; sudangrass, hay; ryegrass, italian, hay; timothy, hay.

15. Section 180.1070 is revised to read as follows:

§ 180.1070 Sodium chlorite; exemption from the requirement of a tolerance.

Sodium chlorite is exempted from the requirement of a tolerance for residues when used in accordance with good agricultural practice as a seed-soak treatment in the growing of the raw agricultural commodities vegetable, brassica, leafy, group 5 and radish, roots and radish, tops.

16. Section 180.1073 is revised to read as follows:

§ 180.1073 Isomate-M; exemption from the requirement of a tolerance.

The oriental fruit moth pheromone (Isomate-M) (Z-8-dodecen-l-yl acetate, E-8-dodecen-l-yl acetate, Z-8-dodecen-l-ol) is exempt from the requirement of a tolerance in or on all the raw agricultural commodities (food and feed) including, peach; quince; nectarine; and nut, macadamia when used in orchards with encapsulated polyethylene tubing to control oriental fruit moth.

17. In § 180.1075, by revising the Commodity list to read as follows:

§ 180.1075 Colletotrichum gloeosporioides f. sp. aeschynomene; exemption from the requirement of a tolerance.

Commodity

Aspirated grain fractions

Rice, grain

Soybean, forage

Soybean, hay

Soybean, seed

18. In § 180.1076, by revising paragraph (b) to read as follows:

§ 180.1076 Viable spores of the microorganism Bacillus popilliae; exemption from the requirement of a tolerance.

(b) Exemption from the requirement of a tolerance is established for residues of the microbial insecticide Bacillus popilliae, as specified in paragraph (a) of this section in or on grass, pasture, forage and grass, rangeland, forage when it is applied to growing crops in accordance with good agricultural practices.

19. In § 180.1083, by revising paragraphs (a) and (b) to read as follows:

§ 180.1083 Dimethyl sulfoxide; exemption from the requirement of a tolerance.

(a) Carbaryl (1-naphthyl methyl-carbamate)

Pea, dry, seed

Pea, succulent

(b) O-O-Diethyl O-(2-isopropyl-6-methyl-4-pyrimidinyl) phosphorothioate

Pea, dry, seed

Pea, succulent

20. Section 180.1087 is revised to read as follows:

§ 180.1087 Sesame stalks; exemption from the requirement of a tolerance.

An exemption from the requirement of a tolerance is established for residues of the biorational nematicide sesame stalk in or on the following raw agricultural commodities: Almond; almond, hulls; cotton, undelinted seed; cotton, gin byproducts; soybean, seed; soybean, forage; soybean, hay; aspirated grain fractions; potato; beet, sugar, roots; beet, sugar, tops; tomato; pepper, bell; squash; strawberry; eggplant; cucumber; carrot, roots; radish, roots; radish, top; turnip, roots; turnip, tops; onion; pea, dry; pea, succulent; melon; grape; walnut; orange; grapefruit; mulberry; peach; apple; apricot; blackberry; loganberry; pecan; cherry; plum, and cranberry.

21. Section 180.1092 is revised to read as follows:

§ 180.1092 Menthol; exemption from the requirement of a tolerance.

An exemption from the requirement of a tolerance is established for residues of the pesticidal chemical menthol in or on honey and honeycomb when used in accordance with good agricultural practice in over-wintering bee hives.

22. Section 180.1097 is revised to read as follows:

§ 180.1097 GBM-ROPE; exemption from the requirement of a tolerance.

The grape berry moth pheromone (GBM-ROPE) containing the active ingredients (Z)-9-dedecenyl acetate and (Z)-11-tetradecenyl acetate is exempt from the requirement of a tolerance in or on the raw agricultural commodity grape when used in orchards with encapsulated polyethylene tubing to control grape berry moth.

23. Section 180.1103 is revised to read as follows:

§ 180.1103 Isomate-C; exemption from the requirement of a tolerance.

The codling moth pheromone (Isomate-C) E,E-8,10-dodecenyl alcohol, dodecanol, tetradecanol is exempt from the requirements of a tolerance in or on all raw agricultural commodities when formulated in polyethylene pheromone dispensers for use in orchards with encapsulated polyethylene tubing to control codling moth.

24. Section 180.1113 is revised to read as follows:

§ 180.1113 Langenidium giganteum; exemption from the requirement of a tolerance.

Lagenidium giganteum (a fungal organism) is exempt from the requirement of a tolerance in or on the raw agricultural commodities aspirated grain fractions; grass, forage; grass, hay; rice, grain; rice, straw; soybean, seed; soybean, forage; soybean, hay; rice, wild, grain.

25. Section 180.1178 is revised to read as follows:

§ 180.1178 Formic acid; exemption from the requirement of a tolerance.

The pesticide formic acid is exempted from the requirement of a tolerance in or on honey and honeycomb when used to control tracheal mites and suppress varroa mites in bee colonies, and applied in accordance with label use directions.

26. Section 180.1196 is revised to read as follows:

§ 180.1196 Peroxyacetic acid; exemption from the requirement of a tolerance.

(a) An exemption from the requirement of a tolerance is established for residues of peroxyacetic acid in or on all food commodities, when such residues result from the use of peroxyacetic acid as an antimicrobial treatment in solutions containing a diluted end use concentration of peroxyacetic acid up to 100 ppm per application on fruits, vegetables, tree nuts, cereal grains, herbs, and spices.

(b) An exemption from the requirement of a tolerance is established for residues of peroxyacetic acid, in or on all food commodities when used in sanitizing solutions containing a diluted end-use concentration of peroxyacetic acid up to 500 ppm, and applied to tableware, utensils, dishes, pipelines, tanks, vats, fillers, evaporators, pasteurizers, aseptic equipment, milking equipment, and other food processing equipment in food handling establishments including, but not limited to dairies, dairy barns, restaurants, food service operations, breweries, wineries, and beverage and food processing plants.

27. In § 180.1206, by revising paragraphs (a) and (c) to read as follows:

§ 180.1206 Aspergillus flavus AF36; exemption from the requirement of a tolerance.

(a) An exemption from the requirement of a tolerance is established for residues of the microbial pesticide Aspergillus flavus AF36 in or on cotton, gin byproducts; cotton, hulls; cotton, meal; cotton, refined oil; cotton, undelinted seed.

(c) Aspergillus flavis AF 36 is temporarily exempt from the requirement of a tolerance on corn, field, forage; corn, field, grain; corn, field, stover; corn, pop, grain; corn, pop, stover; corn, sweet, forage; corn, sweet, kernel plus cob with husks removed; corn, sweet, stover when used in accordance with the Experimental Use Permit 71693-EUP-2. This temporary exemption from the tolerance will expire December 31, 2011.

28. Section 180.1219 is revised to read as follows:

§ 180.1219 Foramsulfuron; exemption from the requirement of a tolerance.

The pesticide foramsulfuron is exempted from the requirement of a tolerance in corn, field, grain/corn, field, forage/ corn, field, stover/corn, pop, grain/corn, pop, forage/corn, pop, stover; corn, sweet, forage; corn, sweet, kernel plus cob with husks removed; corn, sweet, stover when applied as a herbicide in accordance with good agricultural practices.

29. Section 180.1254 is revised to read as follows:

§ 180.1254 Aspergillus flavus NRRL 21882 on peanut; exemption from requirement of a tolerance.

An exemption from the requirement of a tolerance is established for residues of Aspergillus flavus NRRL 21882 in or on peanut; peanut hay; peanut, meal; peanut, refined oil.

30. Section 180.1258 is revised to read as follows:

§ 180.1258 Acetic acid; exemption from the requirement of a tolerance.

An exemption from the requirement of a tolerance is established for residues of the biochemical pesticide acetic acid when used as a preservative on post-harvest agricultural commodities intended for animal feed, including Alfalfa, seed; alfalfa, hay; barley, grain; bermudagrass, hay; bluegrass, hay; bromegrass, hay; clover, hay; corn, field, grain; corn, pop, grain; cowpea, hay; fescue, hay; lespedeza, hay; lupin; oat, grain; orchardgrass, hay; peanut, hay; timothy, hay; vetch, hay; and wheat, grain, or commodities described as grain or hay.

31. Section 180.1261 is revised to read as follows:

§ 180.1261 Xanthomonas campestris pv. vesicatoria and Pseudomonas syringae pv. tomato specific Bacteriophages.

An exemption from the requirement of a tolerance is established for residues of Xanthomonas campestris pv. vesicatoria and Pseudomonas syringae pv. tomato specific bacteriophages in or on pepper and tomato.

32. In § 180.1274, by revising the introductory text to read as follows:

§ 180.1274 Tris (2-ethylhexyl) phosphate; exemption from the requirement of a tolerance.

Tris (2-ethylhexyl) phosphate (TEHP, CAS Reg. No. 78-42-2) is exempt from the requirement of a tolerance for residues in grain, aspirated fractions; barley, grain, barley, hay, barley, straw; wheat, grain; wheat, forage; wheat, hay; wheat, straw when used under the following conditions:

33. Section 180.1276 is revised to read as follows:

§ 180.1276 Tobacco mild green mosaic tobamovirus (TMGMV); temporary exemption from the requirement of a tolerance.

A temporary exemption from the requirement of a tolerance is established for residues of tobacco mild green mosaic tobamovirus in or on all grass, forage and grass, hay.

34. Section 180.1279 is revised to read as follows:

§ 180.1279 Zucchini yellow mosaic virus-weak strain; exemption from the requirement of a tolerance.

An exemption from the requirement of a tolerance for residues of the ZYMVndash;WK strain in or on all raw cucurbit when applied/used in accordance with label directions.

[FR Doc. E9-5194 Filed 3-10-09; 8:45 am]

BILLING CODE 6560-50-S